DEPARTMENT OF LABOR

Occupational Safety and Health Administration

Susan Harwood Training Grant Program

AGENCY: Occupational Safety and Health Administration (OSHA), Labor.

ACTION: Notice of availability of funds and request for grant applications.

SUMMARY: The Occupational Safety and Health Administration (OSHA) awards funds to nonprofit organizations to conduct safety and health training and education in the workplace. This notice announces grant availability for training in safety and health programs in construction; in ergonomics; in bloodborne pathogens; in electrical power generation, transmission and distribution; and for hard-to-reach workers. The notice describes the scope of the grant program and provides information about how to get detailed grant application instructions. Applications should not be submitted without the applicant first obtaining the detailed grant application instructions mentioned later in the notice.

Separate grant applications must be submitted by organizations interested in applying for more than one grant topic.

The Occupational Safety and Health Act of 1970 and the Consolidated Appropriations Act authorizes this program.

DATES: Applications must be received by June 15, 2001.

ADDRESSES: Submit grant applications to the OSHA Office of Training and Education, Division of Training and Educational Programs, 1555 Times Drive, Des Plaines, Illinois 60018.

FOR FURTHER INFORMATION CONTACT: Ronald Mouw, Deputy Director, Office of Training and Education, or Cynthia Bencheck, Program Analyst, OSHA Office of Training and Education, 1555 Times Drive, Des Plaines, Illinois 60018, telephone (847) 297-4810 (this is not a toll-free number), e-mail cindy.bencheck@osha.gov.

SUPPLEMENTARY INFORMATION:

What is the Purpose of the Susan Harwood Training Grant Program?

OSHA's Strategic Plan contains strategic goals to improve workplace safety and health for all workers, change the workplace culture to increase employer and worker awareness of, commitment to, and involvement in safety and health, and to secure public confidence through excellence in the development and delivery of OSHA's programs and services. OSHA's intent is to reduce the number of worker injuries, illnesses and fatalities by focusing nationwide attention and Agency resources on the most prevalent types of workplace injuries and illnesses, the most hazardous industries, and the most hazardous workplaces. The Susan Harwood Training Grants Program is one of the mechanisms OSHA is using to achieve its strategic goals.

Information about OSHA's Strategic Plan is available on OSHA's web site at www.osha.gov in the About OSHA category.

Susan Harwood Training Grants provide funds to train workers and employers to recognize, avoid, and prevent safety and health hazards in their workplaces. The program emphasizes three areas.

• Educating workers and employers in small businesses. A small business has 250 or fewer workers.

• Training workers and employers about new OSHA standards.

• Training workers and employers about high risk activities or hazards identified by OSHA through its Strategic Plan, or as part of an OSHA special emphasis program.

Grantees are expected to provide occupational safety and health services and training, develop safety and health training and/or educational programs, recruit workers and employers for the training, and conduct the training. Grantees are also expected to follow up with people trained by their program to determine what, if any, changes were made to reduce hazards in their workplaces as a result of the training.

What are the Training Topics this Year?

The five training topics were chosen based on injuries and illnesses in selected industries identified in the OSHA Strategic Plan, and to target workers employed in jobs with high risk activities or hazards or who are affected by new/revised OSHA standards. Applicants wishing to apply for more than one grant topic area must submit a separate grant application for each topic. Each grant application must address one of the following areas.

1. Construction, including residential construction. Applicants may address one or more of the following topics.

a. Recognition and avoidance of safety and health hazards in highway construction with emphasis on work zone safety issues, such as preventing fatalities caused by being struck by vehicles and equipment or by contact with overhead power lines. (Standard Industrial Classification (SIC)16.)

b. Recognition and avoidance of safety and health hazards in steel erection construction activities, especially fall protection. (Standard Industrial Classification (SIC)15.)

c. Recognition and avoidance of safety and health hazards involved in communication tower erection construction activities. (Standard Industrial Classification (SIC) 1623.)

d. Recognition and avoidance of safety and health hazards involved in roofing activities, both commercial and residential, especially fall protection. (Standard Industrial Classification (SIC) 1761.)

2. Blood Borne Pathogens. Programs that train workers and employers in the recognition and prevention of safety and health hazards in health services facilities involving the handling of human blood. (Standard Industrial Classification (SIC)80.)

3. Ergonomics. Programs that train workers and employers in the recognition and prevention of ergonomic hazards following best practices for the workers in one of the following industries.

• Construction industry:

—Masonry, stonework, tile setting and plastering. (Standard Industrial Classification (SIC) 174.)

—General Building Contractors—residential buildings. (Standard Industrial Classification (SIC) 152.)

—Carpentry and floor work. (Standard Industrial Classification (SIC) 175.)

• Primary metals. (Standard Industrial Classification (SIC) 33.)

• Warehousing. (Standard Industrial Classification (SIC) 42.)

• Air transportation. (Standard Industrial Classification (SIC) 45.)

4. Electrical Power Generation, Transmission and Distribution. Programs that address safety and health hazards for workers from the following industries.

• Construction industry. (Standard Industrial Classification (SIC) 15.)

• Line workers and maintenance workers. (Standard Industrial Classification (SIC) 17.)

5. Training programs on safety and health issues for hard-to-reach workers. Programs that will provide safety and health hazard information, training, and outreach for hard-to-reach workers such as non-English speaking workers, immigrants, migrants, and illiterate workers working in one of the following industries.

• Residential construction. (Standard Industrial Classification (SIC) 15.)

• Highway construction. (Standard Industrial Classification (SIC) 16.)

• Food processing industry, red meat and/or poultry processing. (Standard Industrial Classification (SIC) 20.)

• Landscaping and tree trimming. (Standard Industrial Classification (SIC) 0783.)

Nonprofit community-based organizations and other nonprofit organizations with established links and experience providing services to clients OSHA has designated as hard-to-reach workers are invited to apply.

Who is Eligible to Apply for a Grant?

Any nonprofit organization is eligible to apply. State or local government supported institutions of higher education are eligible to apply in accordance with 29 CFR 97.4(a)(1).

Applicants other than State or local government supported institutions of higher education will be required to submit evidence of nonprofit status, preferably from the Internal Revenue Service (IRS).

What Can Grant Funds Be Spent on?

Grant funds can be spent on the following:

• Conducting training.

• Conducting other activities that reach and inform workers and employers about occupational safety and health hazards and hazard abatement.

• Developing educational materials for use in the training.

Are There Restrictions on How Grant Funds Can Be Spent?

OSHA will not provide funding for the following activities.

1. Any activity that is inconsistent with the goals and objectives of the Occupational Safety and Health Act of 1970.

2. Training involving workplaces that are not covered by the Occupational Safety and Health Act. Examples include State and local government workers in non-State Plan States and workers covered by section 4(b)(1) of the Act.

3. Production, publication, reproduction or use of training and educational materials, including newsletters and instructional programs, that have not been reviewed by OSHA for technical accuracy.

4. Activities that address issues other than recognition, avoidance, and prevention of unsafe or unhealthy working conditions. Examples include workers' compensation, first aid, and publication of materials prejudicial to labor or management.

5. Activities that provide assistance to workers in arbitration cases or other actions against employers, or that provide assistance to employers and workers in the prosecution of claims against Federal, State or local governments.

6. Activities that directly duplicate services offered by OSHA, a State under an OSHA-approved State Plan, or consultation programs provided by State designated agencies under section 21(d) of the Occupational Safety and Health Act.

What Other Grant Requirements Are There?

1. OSHA review of educational materials. OSHA will review all educational materials produced by the grantee for technical accuracy during development and before final publication. OSHA will also review training curricula and purchased training materials for accuracy before they are used.

When grant recipients produce training materials, they must provide copies of completed materials to OSHA before the end of the grant period. OSHA has a lending program that circulates grant-produced audiovisual materials. Audiovisual materials produced by the grantee as a part of its grant program will be included in this lending program. In addition, all materials produced by grantees must be provided to OSHA in a digital format for possible publication on the Internet by OSHA.

2. OMB and regulatory requirements. Grantees are required to comply with the following documents.

• 29 CFR part 95, which covers grant requirements for nonprofit organizations, including universities and hospitals. These are the Department of Labor regulations implementing OMB Circular A-110.

• OMB Circular A-21, which describes allowable and unallowable costs for educational institutions.

• OMB Circular A-122, which describes allowable and unallowable costs for other nonprofit organizations.

• OMB Circular A-133, 29 CFR part 96 and 99, which provides information about audit requirements.

3. Certifications. All applicants are required to certify to a drug-free workplace in accordance with 29 CFR part 98, to comply with the New Restrictions on Lobbying published at 29 CFR part 93, to make a certification regarding the debarment rules at 29 CFR part 98, and to complete a special lobbying certification.

4. Students. The training program must serve multiple employers. OSHA is interested in reaching more than one employer with each grant awarded.

5. Other. In compliance with the President's Executive Orders 12876, 12900, 12928, and 13021, the grantee is strongly encouraged to provide subgranting opportunities to Historically Black Colleges and Universities, Hispanic Serving Institutions and Tribal Colleges and Universities.

6. The restrictions on expenditures of federal funds in appropriations acts, P.L. 106-554, to the extent those restrictions are pertinent to the award.

7. Acknowledgment of Federal Funds. When issuing statements, press releases, requests for proposals, bid solicitations, and other documents describing projects or programs funded in whole or in part with Federal money, all grantees receiving Federal funds included in the Act, (P.L. 106-554), including but not limited to State and local governments and recipients of Federal research grants, shall clearly state: (1) The percentage of the total costs of the program or project which will be financed with Federal money; (2) the dollar amount of Federal funds for the project or program; and (3) percentage and dollar amount of the total costs of the project or program that will be financed by non-governmental sources.

How Are Applications Reviewed and Rated?

OSHA staff will review grant applications and present the results to the Assistant Secretary who will make the selection of organizations to be awarded grants.

OSHA will give preference to applications that:

• Address multiple safety and health subjects. For example, an application for the construction target that stresses fall protection issues as well as other safety and health issues that affect construction workers involved in roofing would be preferred over one that only addresses fall protection issues.

• Train managers and/or supervisors in addition to workers.

The following factors will be considered in evaluating grant applications.

1. Program Design

a. The proposed training and education program addresses one of the five selected training topics. Please refer back to the “What Are the Training Topics this Year?” section for details on the training topics and appropriate Standard Industrial Codes.

i. Safety and health hazards in construction. Applicants may address one of the following topics.

• Highway construction with emphasis on work zone safety issues.

• Steel erection construction with emphasis on fall protection.

• Communication tower erection construction with emphasis on fall protection.

• Roofing, both non-residential and residential with emphasis on fall protection.

ii. Bloodborne pathogens hazards in health services facilities.

iii. Ergonomic hazards utilizing best practices for one of the following industries.

• Construction.

• Primary Metals.

• Warehousing.

• Air Transportation.

• Health Services.

iv. Electrical power generation, transmission and distribution safety and health hazards for one of the following.

• Workers involved in the new construction, renovation, or upgrading of power distribution and transmission systems.

• Workers employed as line workers and maintenance workers involved in the maintenance, repair, and servicing of power distribution and transmission systems.

v. Safety and health hazard information, training, and outreach for hard-to-reach workers working in residential construction, food processing, highway construction, and landscaping and tree trimming.

b. The proposal plans to train workers and/or employers and clearly estimates the numbers to be trained, and clearly identifies the types of workers and employers to be trained.

c. If the proposal contains a train-the-trainer program, the following information must be provided:

—What ongoing support the grantee will provide to new trainers;

—The outline of the course curriculum that will be used by the new trainers to teach their students;

—The estimated number of the courses to be conducted by the new trainers;

—The estimated number of students to be trained by these new trainers; and

—A description of how the new trainers will report back to the grantee about their classes and student numbers.

d. The planned activities and training are tailored to the needs and levels of the workers and employers to be trained.

e. There is a plan to recruit trainees for the program.

f. If the proposal includes developing educational materials, there is a plan for OSHA to review the materials during development.

g. There is a plan to evaluate the program's effectiveness and impact to determine if the safety and health services provided resulted in workplace change. This includes a description of the evaluation plan to follow up with trainees to determine the impact the program has had in abating hazards and reducing worker injuries.

h. There is a description of the target population, the hazards that will be addressed, the barriers that have prevented adequate training for the target population, why the program cannot be completed without Federal funds, and why funding sources currently available cannot be used for this purpose.

2. Program Experience

a. The organization applying for the grant demonstrates experience with occupational safety and health.

b. The organization applying for the grant demonstrates experience training adults in work-related subjects and/or in providing services to its target audience.

c. The staff to be assigned to the project has experience in occupational safety and health, the specific topic chosen, and training adults.

d. The organization applying for the grant demonstrates experience in recruiting, training, and working with the population it proposes to serve under the grant.

3. Administrative Capability

a. The applicant organization demonstrates experience managing a variety of programs.

b. The applicant organization has administered, or will work with an organization that has administered, a number of different Federal and/or State grants over the past five years.

c. The application is complete, including forms, budget detail, narrative and workplan, and required attachments.

4. Budget

a. The budgeted costs are reasonable.

b. The budget complies with Federal cost principles (which can be found in applicable OMB Circulars) and with OSHA budget requirements contained in the grant application instructions.

c. The cost per trainee is less than $500 and the cost per training hour is reasonable.

In addition to the factors listed above, the Assistant Secretary will take other items into consideration, such as the geographical distribution of the grant programs and the coverage of populations at risk.

How Much Money is Available for Grants?

There is approximately $5 million available for this program. The Federal award will average $150,000—$200,000.

How Long Are Grants Awarded for?

Grants are awarded for a twelve-month period. If first year performance is satisfactory and funds are available, grants will be renewed for an additional twelve-month period.

How Do I Get a Grant Application Package?

Grant application instructions may be obtained from the OSHA Office of Training and Education, Division of Training and Educational Programs, 1555 Times Drive, Des Plaines, Illinois 60018. The application instructions are also available at http://www.osha-slc.gov/Training/sharwood/sharwood.html.

When and Where Are Applications To Be Sent?

The application deadline is 4:30 p.m. central time, Friday, June 15, 2001.

Applications are to be sent to the Division of Training and Educational Programs, OSHA Office of Training and Education, 1555 Times Drive, Des Plaines, IL 60018. Applications may be sent by fax to (847) 297-6636. (This is not a toll-free number.)

How Will I Be Told if My Application Was Selected?

Organizations selected as grant recipients will be notified by a representative of the Assistant Secretary, usually from an OSHA Regional Office. An applicant whose proposal is not selected will be notified in writing.

Notice that an organization has been selected as a grant recipient does not constitute approval of the grant application as submitted. Before the actual grant award, OSHA will enter into negotiations concerning such items as program components, funding levels, and administrative systems. If the negotiations do not result in an acceptable submittal, the Assistant Secretary reserves the right to terminate the negotiation and decline to fund the proposal.

Signed at Washington, DC, this 11th day of April, 2001.
R. Davis Layne,
Acting Assistant Secretary of Labor.

[FR Doc. 01-9520 Filed 4-17-01; 8:45 am]

BILLING CODE 4510-26-U